DEPARTMENT OF TRANSPORTATION

Research and Special Programs Administration

Office of Hazardous Material Safety Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice hereby given that the Office of Hazardous Materials Safety has received the applications described herein. This notice is abbreviated to expedite docketing and public notice. Because the sections affected, modes of transportation, and the nature of application have been shown in earlier Federal Register publications, they are not repeated here. Requests for modifications of exemptions (e.g., to provide for additional hazardous materials, packaging design changes, additional mode of transportation, etc.) are described in footnotes to the application number. Application numbers with the suffix “M” denote a modification request. These applications have been separated from the new applications for exemptions to facilitate processing.

DATES: Comments must be received on or before November 13, 2001.

ADDRESS COMMENTS TO: Records Center, Research and Special Programs, Administration, U.S. Department of Transportation, Washington, DC 20590.

Comments should refer to the application number and be submitted in triplicate. If confirmation of receipt of comments is desired, include a self-addressed stamped postcard showing the exemption number.

FOR FURTHER INFORMATION: Copies of the applications are available for inspection in the Records Center, Nassif Building, 400 7th Street SW, Washington, DC or at http://dms.dot.gov.

This notice of receipt of applications for modification of exemptions is published in accordance with part 107 of the Federal hazardous materials transportation law (49 U.S.C. 5117(b); 49 CFR 1.53(b)).

Issued in Washington, DC, on October 23, 2001.
J. Suzanne Hedgepeth,
Director, Office of Hazardous Materials, Exemption and Approvals.

Application No. | Docket No. | Applicant | Modification of exemption
8915-M |  | Air Liquide America Corporation (See Footnote 1) | 8915
10705-M |  | Baker Petrolite, Victoria, TX (See Footnote 2) | 10705
10833-M |  | Health Care Waste Services, Bronx, NY (See Footnote 3) | 10833
11327-M |  | Phoenix Services, Inc., Pasadena, MD (See Footnote 4) | 11327
11344-M |  | E.I. DuPont de Nemours and Company, Wilmington, DE (See Footnote 5) | 11344
11952-M | RSPA-97-3101 | Department of Defense (MTMC), Alexandria, VA (See Footnote 6) | 11952
12296-M | RSPA-99-5879 | Clean Earth Systems, Inc., Tampa, FL (See Footnote 7) | 12296
12473-M | RSPA-00-7431 | Old Bridge Metals & Chemicals, Inc., Old Bridge, NJ (See Footnote 8) | 12473
12772-M | RSPA-01-10155 | Air Cruisers, Inc., Belmar, NJ (See Footnote 9) | 12772
¹ To modify the exemption to authorize the addition of certain Division 2.1 and 2.2 materials transported in certain manifolded DOT Specification cylinders.
² To modify the exemption to authorize the use of contract carriers for the transportation of a Division 6.1 material, without the segregation requirements, by highway motor vehicle.
³ To modify the exemption to authorize an additional non-DOT specification steel container for use as bulk outer packaging transporting Division 6.2 materials in dual packagings.
⁴ To modify the exemption to authorize a change to the packaging requirements when transporting co-mingled medical waste and municipal solid waste and marking of the inner packaging.
⁵ To modify the exemption to authorize the transportation of additional Class 3 materials in DOT Specification tank cars.
⁶ To modify the exemption to authorize the use of a new laser guided training round configuration with a quantity increase of pressure vessels in the aluminum and wooden outer containers.
⁷ To modify the exemption to authorize certain DOT Specification UN11HH2 composite Intermediate Bulk Containers as outer packaging for lab packs when transporting various classes of hazardous materials.
⁸ To modify the exemption to authorize rail freight as an additional mode of transportation for the transportation of Class 8 materials in DOT Specification UN1H1 and UN1H2 plastic drums.
⁹ To reissue an exemption originally issued on an emergency basis for the transportation of non-DOT specification cylinders, filled in excess of their marked service pressure, containing a Division 2.2 material.

[FR Doc. 01-27137 Filed 10-26-01; 8:45 am]

BILLING CODE 4910-60-M